DEPARTMENT OF AGRICULTURE

Food and Nutrition Service

Agency Information Collection Activities: USDA Professional Standards Training Tracker Tool (PSTTT)

AGENCY: Food and Nutrition Service (FNS), USDA.

ACTION: Notice.

SUMMARY: In accordance with the Paperwork Reduction Act of 1995, this notice invites the general public and other public agencies to comment on this proposed information collection. This collection is an extension, without change, of a currently approved collection for assisting State agencies and school nutrition professionals in recording, tracking, and managing the required training hours for state and local school district nutrition professionals, in four major areas (Nutrition, Operations, Administration, and Communications and Marketing), to meet the requirements of the Healthy Hunger Free Kids Act (HHFKA) of 2010 Professional Standards Rule. The HHFKA (section 306) requires Professional Standards for state and local school district nutrition professionals. In addition to hiring standards, mandatory annual training is required for all individuals involved in preparing school meals.

DATES: Written comments must be received on or before July 10, 2023.

ADDRESSES: Comments may be sent to Kaushalya Heendeniya, Food and Nutrition Service, U.S. Department of Agriculture, 1320 Braddock Place, 4th Floor, Alexandria, VA 22314. Comments may also be submitted to the attention of Kaushalya Heendeniya via email to cnpntab@usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Kaushalya Heendeniya at 703-305-0037 or cnpntab@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: USDA Professional Standards Training Tracker Tool (PSTTT).

Form Number: None.

OMB Number: 0584-0626.

Expiration Date: August 31, 2023.

Type of Request: Extension, without change, of a currently approved collection.

Abstract: The Healthy Hunger Free Kids Act (HHFKA) of 2010 (Section 306) requires Professional Standards for state and local school district nutrition professionals. In addition to hiring standards, mandatory annual training is required for all individuals involved in preparing school meals. To meet the training requirements and assist in keeping track of the training, USDA's Food and Nutrition Service (FNS) provides a web-based application tool with a Structured Query Language (SQL)-server database, which is available for employees of State agencies, local educational agencies, and school food authorities through the FNS public website, with eAuthentication. While training requirements are mandatory, using the USDA Professional Standards Training Tracker Tool (PSTTT) is voluntary. The tool facilitates compliance with HHFKA requirements and is provided at no cost. In addition, FNS provides a mobile friendly version of the PSTTT application to ensure easy usage and accessibility across mobile devices. The application is compatible with all mobile operating systems (iOS, Android, and Windows).

The user can create a user profile with the following information:

• School District/Address

• School Name/Address

• Individual's Name

• Email Address

• Job Title and Role

• Hiring Date

The user will enter the following information:

• Key Area

• Training Topic

• Learning Objective

• Training Title

• Training Hours/Minutes

• Date of Training

• Training Provider or Organization

The user can enter multiple employee names for one specific training. Users can print certificates of completion for trainings. The tool provides the user with the ability to export and save results in multiple file formats, including portable document format (.pdf), Microsoft Excel (.xlsx), and Word Files versions 2000 or higher (.docx). Streamlined and intuitive navigation is offered to allow for easy access to all functionalities.

Affected Public: State, local, and Tribal government. Respondent groups include State agency personnel and school nutrition professionals.

Estimated Number of Respondents: The total estimated number of respondents is 10,006. This includes 6 State agency personnel and 10,000 school nutrition professionals who voluntarily choose to utilize this tracking tool as registered users. All respondents will be offered a 60-minute training webinar on features of the tool.

Estimated Number of Responses per Respondent: Total estimated number of responses per respondent across the entire collection is seven. The estimated number of responses per respondent for the tracking tool is five. The tracking tool users will first be required to create their user profile, which will be saved for future use. It is estimated that the user will be updating and managing their records on a quarterly basis. The estimated number of responses per respondent for the training webinar is two; one for the live webinar and one for the recorded training.

Estimated Total Annual Responses: 70,042.

Estimated Time per Response: The average estimated time per response for all of the participants, across all of the activities in this collection, is approximately 14 minutes (0.24 hours). For the USDA Professional Standards Training Tracker Tool (PSTTT), the estimated time of response varies from five to 10 minutes depending on familiarity of the tool and the number of reports created, with an average estimated time of 7.5 minutes (0.125 hours) for all participants. The annual training webinar of 60 minutes (1 hour) will be available for all participants. Participants will record trainings into the tracking tool, which is estimated to take 5 minutes (0.083 hours) to complete.

Estimated Total Annual Burden on Respondents: 17,090.25 hours (rounded to 17,090 hours). See the table below for estimated total annual burden for each type of respondent.

Respondent | Estimated number respondent | Responses annually per respondent | Total annual responses (col. bxc) | Estimated avg. number of hours per response | Estimated total hours (col. dxe)
Reporting Burden for State, Local, and Tribal Govt
State agency Personnel | 6 | 5 | 30 | 0.125 | 3.75
Training Webinar | 6 | 1 | 6 | 1 | 6
Recording of Trainings on the Tool | 6 | 1 | 6 | 0.083 | 0.498
School Nutrition Professionals | 10,000 | 5 | 50,000 | 0.125 | 6,250
Training Webinar | 10,000 | 1 | 10,000 | 1 | 10,000
Recording of Trainings on the Tool | 10,000 | 1 | 10,000 | 0.083 | 830
Total reporting burden | 10,006 | 7 | 70,042 | 0.244 | 17,090.25

Tameka Owens,
Assistant Administrator, Food and Nutrition Service.

[FR Doc. 2023-09890 Filed 5-9-23; 8:45 am]

BILLING CODE 3410-30-P